DEPARTMENT OF THE INTERIOR

Fish and Wildlife Service

Letters of Authorization To Take Marine Mammals

AGENCY: U.S. Fish and Wildlife Service.

ACTION: Notice of issuance of Letters of Authorization to take marine mammals incidental to oil and gas industry activities.

SUMMARY: In accordance with section 101(a)(5)(A) of the Maine Mammal Protection Act of 1972, as amended, and the U.S. Fish and Wildlife Service implementing regulations [50 CFR 18.27(f)(3), notice is hereby given that a Letter of Authorization to take polar bears and Pacific walrus incidental to oil and gas industry exploration, development, and production activities has been issued to the following company.

Company | Activity | Date issued
BP Exploration | Environmental Monitoring | July 5, 2000.

FOR FURTHER INFORMATION CONTACT: Mr. John W. Bridges at the U.S. Fish and Wildlife Service, Marine Mammals Management Office, 1011 East Tudor Road, Anchorage, Alaska 99503, (800) 362-5148 or (907) 786-3810.

SUPPLEMENTARY INFORMATION: Letters of Authorization were issued in accordance with U.S. Fish and Wildlife Service Federal Rules and Regulations “Marine Mammals; Incidental Take During Specified Activities (65 FR 16828; March 30, 2000”).

Dated: August 3, 2000.
E. LaVerne Smith,
Acting Regional Director.

[FR Doc. 00-20852 Filed 8-17-00; 8:45 am]

BILLING CODE 4310-55-M